DEPARTMENT OF ENERGY

Federal Energy Regulatory Commission

[Project No. 1858-023]

Beaver City Corporation; Notice of Waiver Period for Water Quality Certification Application

On August 24, 2022, Beaver City Corporation submitted to the Federal Energy Regulatory Commission (Commission) a copy of the request for a Clean Water Act section 401(a)(1) water quality certification filed with the Utah Department of Environmental Quality, Division of Water Quality (Utah DEQ), in conjunction with the above captioned project. Pursuant to 40 CFR 121.6 and section 4.34(b)(5) of the Commission's regulations,¹ we hereby notify the Utah DEQ of the following:

¹ 18 CFR 4.34(b)(5).

Date of Receipt of the Certification Request: August 2, 2022.

Reasonable Period of Time to Act on the Certification Request: One year (August 2, 2023).

If the Utah DEQ fails or refuses to act on the water quality certification request on or before the above date, then the agency certifying authority is deemed waived pursuant to section 401(a)(1) of the Clean Water Act, 33 U.S.C. 1341(a)(1).

Dated: August 29, 2022.
Kimberly D. Bose,
Secretary.

[FR Doc. 2022-19058 Filed 9-1-22; 8:45 am]

BILLING CODE 6717-01-P